DEPARTMENT OF DEFENSE

Department of the Navy

Notice of Performance Review Board Membership

AGENCY: Department of the Navy, DoD.

ACTION: Notice.

SUMMARY: Pursuant to 5 U.S.C. 4314(c)(4), the Department of Navy (DON) announces the appointment of members to the DON's numerous Senior Executive Service (SES) Performance Review Boards (PRBs). The purpose of the PRBs is to provide fair and impartial review of the annual SES performance appraisal prepared by the senior executive's immediate and second level supervisor; to make recommendations to appointing officials regarding acceptance or modification of the performance rating; and to make recommendations for performance bonuses and basic pay increases. Composition of the specific PRBs will be determined on an ad hoc basis from among the individuals listed below:

CAPT Mark Bruington

CAPT Robert Palisin

Dr. John Montgomery

Dr. Judith Lean

Dr. Thomas Killion

Dr. Walter Jones

LtGen Mark Brilakis

Mr. Anthony Cifone

Mr. William O'Donnell

Mr. Brian Persons

Mr. Bryan Wood

Mr. Dennis Biddick

Mr. Donald McCormack

Mr. Garry Newton

Mr. Gary Kessler

Mr. Gary Ressing

Mr. James McCarthy

Mr. James Meade

Mr. James Smerchansky

Mr. John Goodhart

Mr. John Pazik

Mr. John Thackrah

Mr. Joseph Ludovici

Mr. Mark Andress

Mr. Mark Honecker

Mr. Mark Ridley

Mr. Michael Kistler

Mr. Patrick Sullivan

Mr. Paul Jaeger

Mr. Phillip Chudoba

Mr. Robert Hogue

Mr. Ronald Davis

Mr. Samuel Worth

Mr. Scott Lutterloh

Mr. Scott O'Neil

Mr. Stephen Trautman

Mr. Steve Iselin

Mr. Thomas Hicks

Mr. Todd Balazs

Mr. Tom Dee

Mr. William Deligne

Ms. Allison Stiller

Ms. Anne Brennan

Ms. Carmela Keeney

Ms. Cindy Shaver

Ms. Diane Boyle

Ms. Gloria Valdez

Ms. Jennifer LaTorre

Ms. Joan Johnson

Ms. Leslie Taylor

Ms. Lynn Wright

Ms. Mary Tompa

Ms. Sharon Smoot

Ms. Wen Masters

RADM Elizabeth Train

RADM Jeffrey Harley

RADM Thomas Moore

RDML Jon Hill

RDML Lorin Selby

RDML William Galinis

VADM Terry Benedict

FOR FURTHER INFORMATION CONTACT: Jacqueline Wourman, Performance Management Program Manager, Executive Management Program Office, Office of Civilian Human Resources at 202 685-6665.

Dated: November 24, 2015.
N.A. Hagerty-Ford,
Commander, Judge Advocate General's Corps, U.S. Navy, Federal Register Liaison Officer.

[FR Doc. 2015-30494 Filed 11-30-15; 8:45 am]

BILLING CODE 3810-FF-P